DEPARTMENT OF THE INTERIOR

National Park Service

[2253-665]

Notice of Inventory Completion: Field Museum of Natural History, Chicago, IL

AGENCY: National Park Service, Interior.

ACTION: Notice.

SUMMARY: The Field Museum of Natural History has completed an inventory of human remains and associated funerary objects, in consultation with the appropriate Indian tribes, and has determined that there is a cultural affiliation between the human remains and associated funerary objects and present-day Indian tribes. Representatives of any Indian tribe that believes itself to be culturally affiliated with the human remains and associated funerary objects may contact the Field Museum of Natural History. Repatriation of the human remains and associated funerary objects to the Indian tribes stated below may occur if no additional claimants come forward.

DATES: Representatives of any Indian tribe that believes it has a cultural affiliation with the human remains and associated funerary objects should contact the Field Museum of Natural History at the address below by January 23, 2012.

ADDRESSES: Helen Robbins, Repatriation Director, Field Museum of Natural History, 1400 South Lake Shore Drive, Chicago, IL 60605-2496, telephone (312) 665-7317.

SUPPLEMENTARY INFORMATION: Notice is here given in accordance with the Native American Graves Protection and Repatriation Act (NAGPRA), 25 U.S.C. 3003, of the completion of an inventory of human remains and associated funerary objects in the possession of the Field Museum of Natural History, Chicago, IL (Field Museum). The human remains and associated funerary objects were removed from Fresno, Kings, and Madera Counties, CA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Field Museum professional staff in consultation with representatives of the Picayune Rancheria of Chukchansi Indians of California; Santa Rosa Indian Community of the Santa Rosa Rancheria, California; Table Mountain Rancheria of California; and the Tule River Indian Tribe of the Tule River Reservation, California (hereinafter referred to as “The Tribes”).

History and Description of the Remains

In March 1901, human remains representing, at minimum, six individuals (catalog numbers 42707- 42709, 42713) were removed from unknown locations in Squaw Valley, near Sanger in Fresno County, CA, by John Hudson. No known individuals were identified. The two associated funerary objects are a child's basket (catalog number 70830) and an abalone shell comprised of one larger piece of shell and its fragments.

On an unknown date in 1901, human remains representing, at minimum, three individuals (catalog numbers 42710-42712) were removed from unknown locations in Hanford, Kings County and Raymond, Madera County, CA, by Mr. Hudson. No known individuals were identified. No associated funerary objects are present.

These human remains have been identified as Native American based on the specific cultural and geographic attribution in Field Museum records. The records identify the human remains as “Mariposan” or “Yokuts” from Sanger, Hanford and Raymond, CA. “Yokuts” descendents in California are represented by The Tribes.

Determinations Made by the Field Museum of Natural History

Officials of the Field Museum have determined that:

• Pursuant to 25 U.S.C. 3001 (9), the human remains described above represent the physical remains of nine individuals of Native American ancestry.

• Pursuant to 25 U.S.C. 3001 (3)(A), the two objects described above are reasonably believed to have been placed with or near individual human remains at the time of death or later as part of the death rite or ceremony.

• Pursuant to 25 U.S.C. 3001 (2), there is a relationship of shared group identity that can be reasonably traced between these Native American human remains and The Tribes.

Additional Requestors and Disposition

Representatives of any other Indian tribe that believes itself to be culturally affiliated with these human remains and associated funerary objects should contact Helen Robbins, Repatriation Director, Field Museum of Natural History, 1400 South Lake Shore Drive, Chicago, IL 60605-2496, telephone (312) 665-7317, before January 23, 2012. Repatriation of the human remains and associated funerary objects to The Tribes may begin after that date if no additional claimants come forward.

The Field Museum of Natural History is responsible for notifying The Tribes that this notice has been published.

Dated: December 20, 2011.
Sherry Hutt,
Manager, National NAGPRA Program.

[FR Doc. 2011-32963 Filed 12-22-11; 8:45 am]

BILLING CODE 4312-50-P